SMALL BUSINESS ADMINISTRATION

Reporting and Recorkeeping Requirements Under OMB Review

Correction

In notice document 01-18453 appearing on page 38776, in the issue of Wednesday, July 25, 2001, under the heading Supplementary Information, “No: remove 2184” and insert “N/A”.

Jacqueline White,
Chief, Administrative Information Branch.

[FR Doc. 01-19553 Filed 8-3-01; 8:45 am]

BILLING CODE 8025-01-P